DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 5, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Evaluating the Interview Requirement for SNAP Certification.

OMB Control Number: 0584-NEW.

Summary of Collection: The Food and Nutrition Service (FNS), part of the U.S. Department of Agriculture (USDA), is authorized to collect these data under Section 17 of the Food and Nutrition Act of 2008, as amended through Public Law 118-5, enacted June 3, 2023. The Supplemental Nutrition Assistance Program (SNAP) is the foundation of the nation's nutrition assistance safety net and is a core source of support to millions of Americans, particularly during economic downturns. To help States handle increased need and participation amid the health risks of the pandemic, the Food and Nutrition Service (FNS) offered States a range of flexibilities which provided support to States administering the program and clients in the application process, including the option to waive the certification and recertification interview requirement. This allowed States to continue administering SNAP during the public health emergency with minimal client contact. FNS required States that waived the interview requirement to document their experiences processing cases without the interview. However, more rigorous evidence is needed to confidently understand the effects of waiving the interview requirement.

Need and Use of the Information: The Evaluating the Interview Requirement for SNAP Certification study will collect information in five States to assess how eliminating interviews affects outcomes, including administrative efficiency, costs, benefit accuracy, and client access. The project will include a randomized control trial (RCT) to analyze the impacts of outcomes between those clients assigned to receive an interview (the regular interview process group) and those assigned to not receive an interview (the no-interview group).

Description of Respondents: State and Local Governments, Businesses (Not-for-profit), and Individuals and Households.

Number of Respondents: 494.

Frequency of Responses: Reporting: Once.

Total Burden Hours: 1,807.33.

Rachelle Ragland-Greene,
Departmental Information Collection Clearance Officer.

[FR Doc. 2024-31632 Filed 1-3-25; 8:45 am]

BILLING CODE 3410-30-P